DEPARTMENT OF AGRICULTURE

Rural Utilities Service

Announcement of Grant Application Deadlines and Funding Levels

AGENCY: Rural Utilities Service, USDA.

ACTION: Notice of Funds Availability (NOFA).

SUMMARY: The Rural Utilities Service (RUS), an agency of the United States Department of Agriculture, announces the Delta Health Care Services Grant Program application window for Fiscal Year 2011 funding of $2,994,000 in grant funds to be competitively awarded for the Delta Health Care Services Grant Program.

A NOFA was previously published on April 4, 2011, in the Federal Register, at 76 FR 18513 announcing the Delta Health Care Services Grant Program application window and the availability of $3,000,000 in grant funds that were provided in fiscal year 2010, to be competitively awarded for the Delta Health Care Services Grant Program.

We have been informed that, due to the serious flooding and devastating tornadoes in the Delta Region, a number of potential applicants could not complete an application in time to meet the application deadline of June 3, 2011 in the notice of funds availability previously published on April 4, 2011, in the Federal Register, at 76 FR 18513. We believe that it is in the best interests of the residents of the Delta Region to open a second application period to enable those potential applicants and others to have a chance to benefit from this grant program.

DATES: You may submit completed applications for grants according to the following deadlines:

• Paper copies must be postmarked and mailed, shipped, or sent overnight no later than August 11, 2011 to be eligible for FY 2011 grant funding. Late or incomplete applications will not be eligible for FY 2011 grant funding.

• Electronic copies must be received by August 11, 2011 to be eligible for FY 2011 grant funding. Late or incomplete applications will not be eligible for FY 2011 grant funding.

ADDRESSES: You may obtain application guides and materials for the Delta Health Care Services grants the following ways:

• The Internet at the RUS Telecommunications Programs Web site: http://www.rurdev.usda.gov/utp_deltahealthcare.html

• You may also request application guides and materials from RUS by contacting, RUS Office of the Program Advisor at (202) 720-8427.

You may submit:

• Completed paper applications for Delta Health Care Services grants to the Rural Utilities Service, U.S. Department of Agriculture, 1400 Independence Ave., SW., Room 2919, STOP 1541, Washington, DC 20250-1550. Applications should be marked ”Attention: Program Advisor—Telecommunications Program.”

• Electronic grant applications at http://www.grants.gov/(Grants.gov), following the instructions you find on that Web site.

FOR FURTHER INFORMATION CONTACT: Craig R. Wulf, Program Advisor—Telecommunications Program, Rural Utilities Service, 1400 Independence Ave., SW, Room 2919, STOP 1541, Washington, DC 20250-1550; telephone: 202-720-8427, fax: 202-720-2734.

EO 13175 Consultations and Coordination With Indian Tribal Governments

To introduce tribes and tribal leaders in the Delta Region to this program USDA hosted a teleconference on December 7, 2010. USDA extended an invitation to Tribal Leaders of the six Federally recognized Tribes in Mississippi, Louisiana, and Alabama on November 30, 2010. Through this call USDA aimed to review, discuss, and open the door for consultation on this program, in case the tribes brought forward any unanticipated concerns regarding the draft NOFA provisions of the Delta Health Care Services Grant Program, authorized under Section 379G of the Consolidated Farm and Rural Development Act. Three of the six tribes participated on the teleconference on December 7, 2010. It was explained that eligible grant applicants are limited to consortiums or groups of regional institutions of higher education, academic health and research institutes, and economic development entities located in the Delta Region that have experience in addressing the health care issues in the region. It was also articulated that eligible consortiums may include participation with Indian Tribes. The Tribal Leaders did not express any perceived negative impact regarding the draft, and were given appropriate Rural Development contact information should they have any future concerns regarding the NOFA. As a result of this teleconference, USDA has assessed the impact of this NOFA on Indian Tribal Governments in the Delta Region, and has concluded that this NOFA will not negatively affect the Federally recognized Tribes in the region, or impose substantial direct compliance costs on Indian Tribal Governments, nor preempt tribal law.

Paperwork Reduction Act

The Paperwork Reduction Act requires Federal Agencies to seek and obtain Office of Management and Budget (OMB) approval before undertaking a collection of information directed to ten or more persons. In accordance with the Paperwork Reduction Act of 1995 (44 U.S.C. Chapter 35), the agency conducted an analysis to determine the universe of respondents that could meet the eligibility requirements to apply for the Delta Health Care Services Grant Program. It was determined that the eligible number of entities in the Delta Region was fewer than nine and in accordance with 5 CFR part 1320 the agency has not obtained OMB approval of the information collection associated with this NOFA.

SUPPLEMENTARY INFORMATION:

Overview

Federal Agency: Rural Utilities Service (RUS).

Funding Opportunity Title: Delta Health Care Services Grant Program.

Announcement Type: Initial announcement.

Catalog of Federal Domestic Assistance (CFDA) Number: 10.874.

Due Date for Applications: August 11, 2011.

Items in Supplementary Information

I. Funding Opportunity: Brief introduction to the Delta Health Care Services Grant Program.

II. Definitions: Sets forth the key statutory terms and other terms.

III. Award Information: Available funds and minimum amounts.

IV. Eligibility Information: Who is eligible, what kinds of projects are eligible, what criteria determine basic eligibility.

V. Application and Submission Information: Where to get application materials, what constitutes a completed application, how and where to submit applications, deadlines, items that are eligible.

VI. Application Review Information: Considerations and preferences, scoring criteria, review standards, selection information.

VII. Award Administration Information: Award notice information, award recipient reporting requirements.

VIII. Agency Contacts: Web, phone, fax, email, contact name.

I. Funding Opportunity

Advanced telecommunications services play a vital role in the economic development, education, and health care of rural America. The Delta Health Care Services Grant Program is designed to provide financial assistance to address the continued unmet health needs in the Delta Region through cooperation among health care professionals, institutions of higher education, research institutions, and other individuals and entities in the Delta Region. Grant funds may be utilized for the development of health care services; health education programs; health care job training programs; and for the development and expansion of public health-related facilities in the Delta Region. Grants will be awarded to eligible entities in the Delta Region serving communities of no more than 50,000 inhabitants to help to address the longstanding and unmet health needs of the region.

II. Definitions

The terms and conditions provided in this NOFA are applicable to and for purposes of this NOFA only.

Consortium means a combination or group of regional institutions of higher education, academic health and research institutes, and economic development entities located in the Delta Region that have experience in addressing the health care issues in the region.

Delta Region means the 252 counties and parishes within the states of Alabama, Arkansas, Illinois, Kentucky, Louisiana, Mississippi, Missouri, and Tennessee that are served by the Delta Regional Authority. (The Delta Region may be adjusted by future Federal statute.)

Distance learning means a telecommunications link to an end user through the use of equipment to: Provide educational programs, instruction, or information originating in one area, whether rural or not, to students and teachers who are located in rural areas; or connect teachers and students located in one rural area with teachers and students that are located in a different rural area.

Institution of Higher Education means either a postsecondary (post-high school) educational institution that awards a bachelor's degree or provides not less than a 2-year program that is acceptable for full credit toward such a degree, or a postsecondary vocational institution that provides a program of training to prepare students for gainful employment in a recognized occupation.

Rural area means any area of the United States not included within (a) the boundaries of any incorporated or unincorporated city, village, or borough having a population in excess of 50,000 inhabitants and (b) any urbanized area contiguous and adjacent to a city or town described in clause (a).

RUS, or the Agency, means the Rural Utilities Service.

Telemedicine means a telecommunications link to an end user through the use of eligible equipment which electronically links medical professionals at separate sites in order to exchange health care information in audio, video, graphic, or other format for the purpose of providing improved health care services primarily to residents of rural areas.

III. Award Information

Each entity applying which is not exempted must be registered in the Central Contractors Registration (CCR) prior to submitting an application or Plan for financial assistance and maintain an active CCR registration (review and update on an annual basis) and provide its Dun and Bradstreet (D&B) Data Universal Numbering System (DUNS) number.

RUS is making $2,994,000 available for competitive grants in the Delta Region. The minimum grant amount is $50,000.

Delta Health Care Services grants cannot be renewed. Award documents specify the term of each award. The Agency will make awards and execute documents appropriate to the project prior to any advance of funds to successful applicants. The Agency will consider a one-time request to extend the period for up to 1 year during which grant funding is available.

IV. Eligibility Information

A. Who is eligible for grants?

1. A Consortium, as defined in section II of this NOFA.

2. The Consortium, itself, does not have to be legally organized. However, at least one member of the Consortium must be legally organized as an incorporated organization, or other legal entity, and have legal authority to contract with the Government. Individuals are not eligible for Delta Health Care Services Grant Program financial assistance directly.

3. At least one member of the Consortium must have legal capacity and authority to carry out the purposes of the projects in its application, and to enter into contracts and to otherwise comply with applicable Federal statutes and regulations.

4. The Consortium must include at least three entities that: (1) Are regional institutions of higher education, academic health and research institutes, or economic development entities; (2) are located in the Delta Region; and (3) have experience in addressing the health care issues in the Delta Region.

5. The Consortium does not need one entity from each of the three categories, that is, one entity that is a regional institution of higher education, one that is an academic health and research institute, and one entity that is an economic development entity. It may include entities from all three categories, two of the categories, or only one of the categories, so long as there are at least three entities.

6. The Consortium can include additional entities that are not of the type included in the definition of Consortium, and are not located in the Delta Region, so long as the Consortium includes at least three entities that are of the type included in paragraph 4 above.

7. A member of the Consortium may serve as the lead representative for the applicant. A lead representative does not have to be located in a rural area.

B. What are the basic eligibility requirements for a project?

1. To be eligible for a grant, the project must serve, and grant funds must be expended in, a rural area in the Delta Region, as defined in this NOFA. However, the applicant need not propose to serve the entire Delta Regional Authority area.

2. Grant funds may be used to finance any of the following:

a. Develop health care services;

b. Develop health education programs;

c. Develop health care job training programs;

d. Develop and expand public health-related facilities in the Delta Region to address longstanding and unmet health needs of the region.

3. Applicants are strongly encouraged to emphasize distance learning and/or telemedicine projects in their proposed use of grant funds.

4. All facilities constructed or leased with grant funds must be new equipment.

5. The total amount for salaries and wages, administrative expenses, and recurring operating costs may not exceed 20 percent of the grant funds.

6. Matching contribution: There is no requirement for matching funds in this program.

7. Facilities constructed or acquired before the completed application is approved by RUS are not eligible for grant funds.

8. Grant funds must be used in rural areas in the Delta Region for eligible purposes, as defined in this section.

V. Application and Submission Information

A. Where To Get Application Information

The application guide and copies of necessary forms and samples for the Delta Health Care Services Grant Program are available from these sources:

• The Internet at http://www.rurdev.usda.gov/utp_deltahealthcare.html

• http://www.grants.gov, or,

• For paper copies of these materials: call (202) 720-8427.

B. How and Where To Submit an Application

You may file an application in either paper or electronic format. Whether you file a paper or an electronic application, you will need a DUNS number.

1. DUNS Number.

As required by the OMB, all applicants for grants must supply a Dun and Bradstreet Data Universal Numbering System (DUNS) number when applying. The Standard Form 424 (SF-424) contains a field for you to use when supplying your DUNS number. Obtaining a DUNS number costs nothing and requires a short telephone call to Dun and Bradstreet. Please see http://www.grants.gov/applicants/request_duns_number.jsp for more information on how to obtain a DUNS number or how to verify your organization's number.

2. Central Contractor Registration (CCR).

(a) In accordance with 2 CFR part 25, applicants, whether applying electronically or by paper, must be registered in the CCR prior to submitting an application. Applicants may register for the CCR at https://www.uscontractorregistration.com/ or by calling 1-877-252-2700. Completing the CCR registration process takes up to five business days, and applicants are strongly encouraged to begin the process well in advance of the deadline specified in this notice.

(b) The CCR registration must remain active, with current information, at all times during which an entity has an application under consideration by an agency or has an active Federal Award. To remain registered in the CCR database after the initial registration, the applicant is required to review and update, on an annual basis from the date of initial registration or subsequent updates, its information in the CCR database to ensure it is current, accurate and complete.

For paper applications, send or deliver the applications by the U.S. Postal Service (USPS) or courier delivery services to the RUS receipt point set forth below. RUS will not accept applications by fax or e-mail. Mail or ensure delivery of an original paper application (no stamped, photocopied, or initialed signatures) and one copy by the July 15, 2011, to the following address: Program Advisor, Telecommunications Program, Rural Utilities Service, 1400 Independence Avenue, SW., STOP 1541, Room 2919, Washington, DC 20250-1550. The application and any materials sent with it become Federal records by law and cannot be returned to you.

C. Submission From Applicants Who Submitted Applications Under the Notice of Funds Availability Which Was Published on April 4, 2011, in the Federal Register, at 76 FR 18513

1. An applicant who submitted an application under the aforementioned notice of funds availability may submit a new application under this NOFA for a project other than that previously submitted.

2. An applicant may resubmit their original application for consideration under this NOFA so long as the application meets the requirements of this NOFA. Such applications will be first considered under the aforementioned notice of funds availability, and after all funding has been awarded under said notice, will be considering all qualifying new applications under this NOFA.

D. What constitutes a completed application?

1. Detailed information on each item required can be found in the Delta Health Care Services Grant Program application guide. The program's application guide provides specific guidance on each of the items listed and also provides all necessary forms and sample worksheets.

2. A completed application must include the following: Documentation, studies, reports, and information listed below, in form satisfactory to RUS. Applications should be prepared in conformance with applicable USDA regulations including 7 CFR parts 3015, 3016, and 3019. Applicants must use the application guide for this program containing instructions and all necessary forms, as well as other important information, in preparing their application. Completed applications must include the following:

a. An Application for Federal Assistance. A completed Standard Form (SF) 424.

b. Evidence of eligibility. Evidence of the applicant's eligibility to apply under this Notice, demonstrating that the applicant is a consortium as defined in this Notice.

c. A project abstract. A one page summary not to exceed one page, suitable for dissemination to the public and to Congress.

d. Executive summary. An executive summary of the project describing its purpose, not to exceed two pages.

e. Scoring documentation. The grant applicant must address and provide documentation on how it meets each of the scoring criteria, specifically the rurality of the project area and communities served, the community needs and benefits derived from the project, and project management and organization capability.

f. Service area maps. Maps with sufficient detail to show the area that will benefit from the proposed facilities and services, and the location of facilities purchased with grant funds.

g. Scope of work. The scope of work must include (1) the specific activities and services, such as programs and training, to be performed under the project, (2) the facilities to be purchased or constructed, in addition to who will carry out the activities and services, and specific time frames for completion and (3) documentation regarding how the applicant solicited input for the project from local governments, public health care providers, and other entities in the Delta Region.

h. Budget. The applicant must provide a budget showing the line item costs for all capital and operating expenditures eligible for the grant funds, and other sources of funds necessary to complete the project.

i. Financial information and sustainability. The applicant must provide current financial statements and a narrative description demonstrating sustainability of the project, all of which show sufficient resources and expertise to undertake and complete the project and how the project will be sustained following completion.

j. Statement of experience. The applicant must provide a written narrative describing its demonstrated capability and experience in addressing the health care issues in the Delta Region and in managing and operating a project similar to the proposed project.

k. Evidence of legal authority and existence. At least one member of the Consortium must provide evidence of its legal existence and authority to enter into a grant agreement with the Rural Utilities Service and perform the activities proposed under the grant application.

l. Compliance with other Federal statutes. The applicant must provide evidence or certification that it is in compliance with all applicable Federal statutes and regulations, including, but not limited to the following (sample certifications are provided in the application guide.):

(1) Equal Opportunity and Nondiscrimination;

(2) Architectural barriers;

(3) Flood hazard area precautions;

(4) Uniform Relocation Assistance and Real Property Acquisition Policies Act of 1970;

(5) Drug-Free Workplace Act of 1998 (41 U.S.C. 701 et seq.);

(6) Debarment, Suspension; and Other Responsibility Matters—Primary Covered Transactions;

(7) Lobbying for Contracts, Grants, Loans, and Cooperative Agreements (31 U.S.C. 1352).

m. Environmental impact and historic preservation. The applicant must provide details of the project's impact on the environment and historic preservation, and comply with 7 CFR part 1794, which contains the Agency's policies and procedures for implementing a variety of Federal statutes, regulations, and executive orders generally pertaining to the protection of the quality of the human environment. This must be contained in a separate section entitled “Environmental Impact of the Project” and must include the Environmental Questionnaire/Certification describing the impact of the project. The Environmental Questionnaire/Certification is available on the RUS Telecommunications Programs Website at: http://www.rurdev.usda.gov/utp_deltahealthcare.html. Submission of the Environmental Questionnaire/Certification alone does not constitute compliance with 7 CFR part 1794.

n. Each application must include an acknowledgement from each member of the Consortium that it is a member of the Consortium. This acknowledgement must be on each entity's letterhead and signed by an authorized representative of the entity.

VI. Application Review Information

A. Criteria

1. Grant applications are scored competitively and subject to the criteria listed below.

2. Grant application scoring criteria are detailed in the Delta Health Care Services Grant Application Guide. There are 100 points available, broken down as follows:

a. The Rurality of the Project area and communities served. (up to 40 points);

b. The Community Needs and Benefits Derived from the project. (up to 45 points); and

c. The Project Management and Organization capability. (up to 15 points).

B. Grant Review standards

1. All applications for grants must be delivered to RUS at the address specified in this notice, or submitted electronically to http://www.grants.gov/ (Grants.gov) to be eligible for funding. RUS will review each application for conformance with the provisions of this part. RUS may contact the applicant for additional information or clarification.

2. Applications conforming with this part will be evaluated competitively by RUS employees, and will be awarded points as described in the Delta Health Care Services Grant Application Guide. Applications will be ranked and grants awarded in rank order until all grant funds are expended.

3. Regardless of the score an application receives, if RUS determines that the Project is technically or financially infeasible, the Agency will notify the applicant, in writing, and the application will be returned and will not be considered for funding.

C. Scoring Guidelines

1. The applicant's self scores in Rurality will be checked and, if necessary, corrected by RUS.

2. The Community Needs and Benefits derived from the project score will be determined by RUS based on information presented in the application. The Community Needs and Benefits score is a subjective score based on the reviewer's assessment of the supporting arguments made in the application. The score aims to assess how the project's purpose and goals benefit the residents in the Delta Region.

3. The Project Management and Organization Capability score will be determined by RUS based on information presented in the application. RUS will evaluate the applicant's experience, past performance, and accomplishments addressing health care issues to ensure effective project implementation.

D. Selection Process

Grant applications are ranked by final score. RUS selects applications based on those rankings, subject to availability of funds. Rural Development has the authority to limit the number of applications selected in any one state, or from any applicant.

VII. Award Administration Information

A. Award Notices

RUS recognizes that each funded project is unique, and therefore may attach conditions to different projects' award documents. The Agency generally notifies applicants whose projects are selected for awards by faxing an award letter. The Agency follows the award letter with a grant agreement that contains all the terms and conditions for the grant. An applicant must execute and return the grant agreement, accompanied by any additional items required by the grant agreement.

B. Administrative and National Policy Requirements

The items listed in Section V of this notice and the Delta Health Care Services Grant Application Guide and accompanying materials implement the appropriate administrative and national policy requirements.

C. Performance Reporting

All recipients of Delta Health Care Services Grant Program financial assistance must provide annual performance activity reports to RUS until the project is complete and the funds are expended. A final performance report is also required; the final report may serve as the last annual report. The final report must include an evaluation of the success of the project.

D. Recipient and Subrecipient Reporting

The applicant must have the necessary processes and systems in place to comply with the reporting requirements for first-tier sub-awards and executive compensation under the Federal Funding Accountability and Transparency Act of 2006 in the event the applicant receives funding unless such applicant is exempt from such reporting requirements pursuant to 2 CFR part 170, § 170.110(b). The reporting requirements under the Transparency Act pursuant to 2 CFR part 170 are as follows:

1. First Tier Sub-Awards of $25,000 or more in non-Recovery Act funds (unless they are exempt under 2 CFR part 170) must be reported by the Recipient to http://www.fsrs.gov no later than the end of the month following the month the obligation was made.

2. The Total Compensation of the Recipient's Executives (5 most highly compensated executives) must be reported by the Recipient (if the Recipient meets the criteria under 2 CFR part 170) to http://www.ccr.gov by the end of the month following the month in which the award was made.

3. The Total Compensation of the Subrecipient's Executives (5 most highly compensated executives) must be reported by the Subrecipient (if the Subrecipient meets the criteria under 2 CFR part 170) to the Recipient by the end of the month following the month in which the subaward was made.

VIII. Agency Contacts

A. Web site: http://www.rurdev.usda.gov/Utilities_LP.html. The Web site maintains up-to-date resources and contact information for the Delta Health Care Services Grant Program.

B. Phone: 202-720-8427.

C. Fax: 202-720-2734.

D. Main point of contact: Program Advisor, Telecommunications Program, RUS.

Dated: July 6, 2011.
Jonathan Adelstein,
Administrator, Rural Utilities Service.

[FR Doc. 2011-17458 Filed 7-11-11; 8:45 am]

BILLING CODE P